SMALL BUSINESS ADMINISTRATION

Region I Regulatory Fairness Board; Public Federal Regulatory Enforcement Fairness Hearing

The Small Business Administration Region I Regulatory Fairness Board and the SBA Office of the National Ombudsman will hold a Public Hearing on Thursday, March 25, 2004 at 8:30 a.m. at the Ferguson Library, One Public Library Plaza, 3rd Floor Auditorium, Stamford, CT 06904, to receive comments and testimony from small business owners, small government entities, and small non-profit organizations concerning regulatory enforcement and compliance actions taken by federal agencies.

Anyone wishing to attend or to make a presentation must contact Marie Record in writing or by fax, in order to be put on the agenda. Marie Record, District Director, Connecticut District Office, 330 Main Street, 2nd Floor, Hartford, CT 06106, phone (860) 240-4670 or (860) 240-4700 ext. 241, fax (860) 240-4717, e-mail: marie.record@sba.gov.

For more information, see our Web site at http://www.sba.gov/ombudsman.

Dated: March 22, 2004.
Peter Sorum,
Senior Advisor, Office of the National Ombudsman.

[FR Doc. 04-6854 Filed 3-25-04; 8:45 am]

BILLING CODE 8025-01-P